DEPARTMENT OF ENERGY

Federal Energy Regulatory Commission

[Docket No. CP00-364-000]

Kinder Morgan Interstate Gas Transmission LLC; Notice of Application

May 18, 2000.

Take notice that on May 11, 2000, Kinder Morgan Interstate Transmission LLC (Kinder Morgan), P.O. Box 281304, Lakewood, Colorado 80228, filed in Docket No. CP00-364-000 an application pursuant to Section 7(b) of the Natural Gas Act for permission and approval to abandon certain pipeline compression facilities located in Kansas, all as more fully set forth in the application on file with the Commission and open to public inspection. This filing may be viewed on the web at http://www.ferc.fed.us/online/htm (call 202-208-2222 for assistance).

Kinder Morgan proposes to abandon by removal a 500 horsepower compressor unit at the Stockton Compressor Station in Rooks County, Kansas. Kinder Morgan states that this unit has not been used since 1985 because of declining gas reserves in the area. Kinder Morgan proposes to abandon by removal 6 compressor units totaling 6,950 horsepower at the Palco Compressor Station also located in Rooks County, Kansas. It is asserted that the compressor station has not been used since February 1988, also due to declining gas reserves in the area. Kinder Morgan proposes to abandon in place 3 compressor units at the Lakin Compressor Station located in Kearny County, Kansas. It is stated that these units, one 1,100 horsepower unit, and two 1,600 horsepower units, have not been utilized since July 1995 because of reduced gas production in the Hugoton Field.

Kinder Morgan estimates the cost of retiring the facilities at $716,000 and the salvage value at $25,000. It is asserted that the proposed abandonments will not negatively impact gas flows or the ability to render transportation service on Kinder Morgan's system. It is further asserted that the abandonments will not require any change in Kinder Morgan's FERC Gas Tariff.

Any questions regarding the application should be directed to B.J. Becker, Assistant General Counsel, at (303) 763-3496, Kinder Morgan Interstate Gas LLC, P.O. Box 281304, Lakewood, Colorado 80228-8304.

Any person desiring to be heard or to make any protest with reference to said application should on or before June 14, 2000, file with the Federal Energy Regulatory Commission, 888 First Street, NE, Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Kinder Morgan to appear or be represented at the hearing.

Linwood A. Watson, Jr.,
Acting Secretary.

[FR Doc. 00-13009 Filed 5-23-00; 8:45 am]

BILLING CODE 6717-01-M